FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011435-011.

Title: APL/CP Ships Space Charter Agreement.

Parties: American President Lines, Ltd.; APL Co. Pte Ltd.; and CP Ships USA, LLC.

Filing Party: Wayne R. Rohde, Esq.; Sher & Blackwell; 1850 M Street, NW., Suite 900; Washington, DC 20036.

Synopsis: The amendment extends the agreement indefinitely and provides that either party may resign on six-month's notice.

Agreement No.: 201103-005.

Title: Memorandum Agreement of the Pacific Maritime Association of December 14, 1983 Concerning Assessments to Pay ILWU—PMA Employee Benefit Costs, As Amended, Through April 26, 2006.

Parties: Pacific Maritime Association and International Longshore and Warehouse Union.

Filing Party: Matthew J. Thomas, Esq.; Troutman Sanders LLP; 401 9th Street, NW.; Suite 1000; Washington, DC 20004-2134.

Synopsis: The amendment adjusts assessment rates under the agreement.

Agreement No.: 201129-002.

Title: Port Manatee Warehouse and Land Lease Extension and Modification Agreement.

Parties: Manatee County Port Authority and WSI of the Southeast, L.L.C.

Filing Party: Joseph W. Gontarski; Senior Director and Special Assistant to the Executive Director; Manatee County Port Authority; 300 Tampa Bay Way; Palmetto, FL 34221-6608.

Synopsis: The amendment extends the lease through December 31, 2015.

By Order of the Federal Maritime Commission.
Dated: May 5, 2006.
Bryant L. VanBrakle,
Secretary.

[FR Doc. E6-7139 Filed 5-9-06; 8:45 am]

BILLING CODE 6730-01-P